ENVIRONMENTAL PROTECTION AGENCY

[ER-FRL-8593-2]

Environmental Impacts Statements; Notice of Availability

Responsible Agency: Office of Federal Activities, General Information (202) 564-1399 or http://www.epa.gov/compliance/nepa/.

Weekly receipt of Environmental Impact Statements.

Filed 04/27/2009 Through 05/01/2009.

Pursuant to 40 CFR 1506.9.

EIS No. 20090136, Draft EIS, USA, AK, U.S. Army Alaska (USARAK) Project, Proposes the Stationing and Training of Increased Aviation Assets, Fort Wainwright, Fairbank, AK, Comment Period Ends: 06/22/2009, Contact: Jennifer Shore 703-602-4238.

EIS No. 20090137, Draft EIS, AFS, CA, Sierra National Forest Travel Management Plan, To Prohibit Motorized Vehicle Travel Off Designated National Forest Transportation System (NFIS) Roads, Trails and Area, Fresno, Mariposa, Madera Counties, CA, Comment Period Ends: 06/22/2009, Contact: Gayne Sears 559-877-2218 Ext. 3182.

EIS No. 20090138, Second Final Supplement, COE, CA, Santa Ana River Interceptor (SARI) Protection/Relocation Project, Reduce the Risk of Damage to the SARI to allow for the Operation of Santa Ana River Project (SARP), and Releases from Prado Dam of up to 30,000 cubic feet per second (cfs), Right-of-Way Permit and US COE Section 404 Permit, Orange and Riverside Counties, CA, Wait Period Ends: 06/08/2009, Contact: Raina Fulton 213-452-3872.

EIS No. 20090139, Draft Supplement, AFS, 00, PROGRAMMATIC—Kootenai, Idaho Panhandle, and Lolo National Forest Plan Amendments for Access Management within the Selkirk and Cabinet-Yaak Grizzly Bear Recovery Zones, Alternative E Updated has been Identified as the Forest Service's Preferred Alternative, ID, WA, MT, Comment Period Ends: 06/22/2009, Contact: Karl Dekome 208-765-7479.

EIS No. 20090140, Final EIS, NOA, 00, Amendment 29 Reef Fish Fishery Management Plan, Effort Management in the Commercial Grouper and Tilefish Fisheries, Reducing Overcapacity, Gulf of Mexico, Wait Period Ends: 06/08/2009, Contact: Roy E. Crabtree 727-824-5305.

EIS No. 20090141, Draft EIS, USA, NM, White Sands Missile Range (WSMR), Development and Implementation of Range-Wide Mission and Major Capabilities, NM, Comment Period Ends: 06/22/2009, Contact: Jennifer Shore 703-602-4238.

EIS No. 20090142, Draft EIS, NPS, CA, Yosemite National Park Project, Construction of Yosemite Institute Environment Education Campus, Implementation, Mariposa County, CA, Comment Period Ends: 07/15/2009, Contact: Ann Roberts 209-379-1383.

EIS No. 20090143, Final EIS, FRC, OR, Jordan Cove Energy and Pacific Connector Gas Pipeline Project, Construction and Operation, Liquefied Natural Gas (LNG) Import Terminal and Natural Gas Pipeline Facilities, Coos, Douglas, Jackson and Klamath Counties, OR, Wait Period Ends: 06/08/2009, Contact: Patricia Schaub 1-866-208-3372.

EIS No. 20090144, Draft EIS, GSA, CA, San Ysidro Land Port of Entry (LPOE) Improvement Project, Propose the Configuration and Expansion of the Existing (LPOE), San Ysidro, CA, Comment Period Ends: 06/22/2009, Contact: Osmahn Kadri 415-522-3617.

EIS No. 20090145, Draft EIS, NPS, IA, Effigy Mounds National Monument General Management Plan, Implementation, Clayton and Allamakee Counties, IA, Comment Period Ends: 07/08/2009, Contact: Phyllis Ewing 563-873-3491.

EIS No. 20090146, Final EIS, COE, OH, Lorain Harbor, Ohio Federal Navigation Project, Dredged Material Management Plan, Implementation, Lorain Harbor, Lorain County, Ohio, Wait Period Ends: 06/08/2009, Contact: Joshua J. Feldmann 716-879-4393.

EIS No. 20090147, Draft Supplement, NSF, HI, Advanced Technology Solar Telescope Project, Issuing Special Use Permit to Operate Commercial Vehicles on Haleakala National Park Road during the Construction of Site at the University of Hawai'i Institute for Astronomy, Haleakala High Altitude Observatory (HO) Site, Island of Maui, HI, Comment Period Ends: 06/22/2009, Contact: Craig Foltz, PhD 703-292-4909.

EIS No. 20090148, Final Supplement, COE, FL, Rock Mining in the Lake Belt Region Plan, Continuance of Limestone Mining Construction, Section 404 Permit, Miami-Dade County, FL, Wait Period Ends: 06/08/2009, Contact: Leah Oberlin 561-472-3506.

EIS No. 20090149, Final EIS, NOA, 00, Amendment 1 to the Tilefish Fishery Management Plan, Proposed Individual Fishing Quota (IFQ) Program, To Reduce Overcapacity in the Commercial Tilefish Fishery, Maine to North Carolina, Wait Period Ends: 06/08/2009, Contact: Patricia A. Kurkul 978-281-9250.

Amended Notices

EIS No. 20090011, Draft EIS, SFW, CA, Tehachapi Uplands Multiple Species Habitat Conservation Plan (TUMSHCP), Propose Issuance of a 50-Year Incidental Take Permit for 27 Federal- and State-Listed and Unlisted Species, Kern County, CA, Comment Period Ends: 07/07/2009, Contact: Mary Grim 916-414-6464.

Revision to FR Notice Published 01/23/2009: Extending Comment Period from 04/22/2009 to 07/07/2009.

Dated: May 5, 2009.
Robert W. Hargrove,
Director, NEPA Compliance Division, Office of Federal Activities.

[FR Doc. E9-10768 Filed 5-7-09; 8:45 am]

BILLING CODE 6560-50-P